DEPARTMENT OF HEALTH AND HUMAN SERVICES

Centers for Disease Control and Prevention

Disease, Disability, and Injury Prevention and Control Special Emphasis Panel (SEP): Monitoring and Evaluation of Malaria Activities in the Greater Mekong Sub-Region, Request for Applications (RFA) CK08-003

In accordance with Section 10(a)(2) of the Federal Advisory Committee Act (Pub. L. 92-463), the Centers for Disease Control and Prevention (CDC) announces the aforementioned meeting.

Time and Date: 12 p.m.-2 p.m., March 13, 2008 (Closed).

Place: Teleconference.

Status: The meeting will be closed to the public in accordance with provisions set forth in section 552b(c) (4) and (6), Title 5 U.S.C., and the Determination of the Director, Management Analysis and Services Office, CDC, pursuant to Public Law 92-463.

Matters To Be Discussed: The meeting will include the review, discussion, and evaluation of “Monitoring and Evaluation of Malaria Activities in the Greater Mekong Sub-Region, RFA CK08-003.”

Contact Person For More Information: Christine Morrison, PhD, Scientific Review Administrator, CDC, 1600 Clifton Road, NE., Mailstop D72, Atlanta, GA 30333, Telephone: (404) 639-3098.

The Director, Management Analysis and Services Office, has been delegated the authority to sign Federal Register notices pertaining to announcements of meetings and other committee management activities, for both CDC and the Agency for Toxic Substances and Disease Registry.

Dated: February 7, 2008.
Elaine L. Baker
Director, Management Analysis and Services Office, Centers for Disease Control and Prevention.

[FR Doc. E8-2793 Filed 2-13-08; 8:45 am]

BILLING CODE 4163-18-P